DEPARTMENT OF JUSTICE

United States Parole Commission

Public Announcement; Pursuant to the Government in the Sunshine Act (Pub. L. 94-409) [5 U.S.C. Section 552b]

Time and Date: 10 a.m., Thursday, October 26, 2006.

Place: 5550 Friendship Blvd., Fourth Floor, Chevy Chase, MD 20815.

Status: Open.

Matters to be Discussed: The following matters have been placed on the agenda for the open Parole Commission meeting:

1. Approval of Minutes of Previous Commission Meeting.

2. Reports from the Chairman, Commissioners, Chief of Staff, and Section Administrators.

3. Proposed Amendment to 28 CFR Section 2.25 regarding the use of video conferencing for probable cause hearings.

4. Proposed Amendment to 28 CFR Section 2.66 regarding the use of the advance consent procedure in the expedited revocation process.

5. Discussion of District of Columbia Crime Emergency.

6. Discussion of Process for Cases Designated Original Jurisdiction.

Agency Contact: Thomas W. Hutchison, Chief of Staff, United States Parole Commission. (301) 492-5990.

Dated: October 19, 2006.
Rockne Chickinell,
General Counsel, U.S. Parole Commission.

[FR Doc. 06-8871 Filed 10-20-06; 11:50 am]

BILLING CODE 4410-31-M